DEPARTMENT OF TRANSPORTATION

Federal Railroad Administration

[Docket No. FRA-1999-6404]

Petition for Grandfathering of Non-compliant Equipment; National Railroad Passenger Corporation; Extension of Comment Period

On October 18, 1999, the National Railroad Passenger Corporation (Amtrak) petitioned the Federal Railroad Administration (FRA) for grandfathering of non-compliant passenger equipment manufactured by Renfe Talgo of America (Talgo) for use on rail lines between Vancouver, British Columbia and Eugene, Oregon; between Las Vegas, Nevada and Los Angeles, California; and between San Diego, California and San Luis Obispo, California. Notice of receipt of such petition was published in the Federal Register on November 2, 1999, at 64 FR 59230. Interested parties were invited to comment on the petition before the end of the comment period of December 2, 1999.

Through published notice in the Federal Register, FRA has extended the comment period in this proceeding and explained the reasons therefor. FRA most recently extended the comment period until February 22, 2000. See 65 FR 5723; Feb. 4, 2000. By this notice, FRA announces that the comment period in this proceeding will remain open to permit the resolution of issues involving an ongoing Freedom of Information Act (FOIA) request for information related to this proceeding. See 65 FR 2223; Jan. 13, 2000. By separate notice, FRA will publicly announce in the Federal Register the final closing date of the comment period in this proceeding. FRA will set that closing date at least ten days after the date such notice is published to permit the requester and any others sufficient time in which to analyze any further documents that may be released by FRA. FRA will place in the docket a copy of any documents provided to the FOIA requester.

Amtrak's petition, documents inserted in the docket, and all written communications concerning this proceeding are available for examination during regular business hours (9:00 a.m. to 5:00 p.m.) at DOT Central Docket Management Facility, Room PL-401 (Plaza Level), 400 Seventh, S.W., Washington, D.C. 20590-0001. All documents in the public docket are also available for inspection and copying on the Internet at the docket facility's Web site at http://dms.dot.gov.

Issued in Washington, D. C. on February 22, 2000.
Grady C. Cothen, Jr.,
Deputy Associate Administrator for Safety Standards and Program Development.

[FR Doc. 00-4742 Filed 2-28-00; 8:45 am]

BILLING CODE 4910-06-P